DEPARTMENT OF EDUCATION

[CFDA No.: 84.128J]

Recreational Programs

AGENCY: Office of Special Education and Rehabilitative Services, Department of Education.

ACTION: Notice of intent to fund down the grant slate for the Recreational Programs.

SUMMARY: The Secretary intends to use the grant slate developed for the Recreational Programs in Fiscal Year (FY) 2005 to make new grant awards in FY 2006. The Secretary takes this action because a significant number of high-quality applications remain on the last year's grant slate and limited funding is available for new grant awards in FY 2006.

FOR FURTHER INFORMATION CONTACT: Ed Hofler, U.S. Department of Education, 400 Maryland Avenue, SW., room 5065, Potomac Center Plaza, Washington, DC 20202-2800. Telephone: (202) 245-7377.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION:

Background

On February 7, 2005, we published a notice in the Federal Register (70 FR 6428) inviting applications for new awards under Recreational Programs. This notice indicated that the selection criteria, absolute priority, and application requirements contained in the notice would apply to the FY 2005 grant competition only.

We received a significant number of applications for grants under Recreational Programs in FY 2005 and made nine new grant awards. Because such a large number of high-quality applications were received, many applications that were awarded high scores by peer reviewers did not receive funding last year.

Limited funding is available for new awards under this program in FY 2006. In order to conserve funding that would have been required for a peer review of new applications submitted under the program, we intend to select grantees in FY 2006 from the existing slate of applicants. This slate was developed during the FY 2005 competition using the selection criteria, absolute priority, and application requirements included in the February 7, 2005, notice. No changes to the selection criteria, absolute priority, or application requirements will be required by this action.

Program Authority: 29 U.S.C. 775.

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: March 2, 2006.
John H. Hager,
Assistant Secretary for Special Education and Rehabilitative Services.

[FR Doc. E6-3175 Filed 3-6-06; 8:45 am]

BILLING CODE 4000-01-P